FEDERAL RESERVE SYSTEM

Formations of, Acquisitions by, and Mergers of Bank Holding Companies; Correction

This notice corrects a notice (FR Doc. E7-13143) published on pages 37223-37224 of the issue for Monday, July 9, 2007.

Under the Federal Reserve Bank of Chicago heading, the entry for Fenton Financial, Inc., Fenton, Michigan, is revised to read as follows:

A. Federal Reserve Bank of Chicago (Burl Thornton, Assistant Vice President) 230 South LaSalle Street, Chicago, Illinois 60690-1414:

1. Fentura Financial, Inc., Fenton, Michigan; to acquire 24.9 percent of the voting shares of Premier Commercial Bank, Arizona, National Association, Mesa, Arizona.

Comments on this application must be received by July 31, 2007.

Board of Governors of the Federal Reserve System, July 9, 2007.
Robert deV. Frierson,
Deputy Secretary of the Board.

[FR Doc. E7-13529 Filed 7-11-07; 8:45 am]

BILLING CODE 6210-01-S